DEPARTMENT OF HEALTH AND HUMAN SERVICES

Centers for Disease Control and Prevention

[60Day-26-1193; Docket No. CDC-2025-1113]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Evaluating the Impact of Training and Technical Assistance (TTA) Programs for NCCCP Efforts. This data collection is designed to collect information about TTA offered using focus groups and a web-based survey to assess whether a specific cooperative agreement has been implemented as intended and contributed to National Comprehensive Cancer Control Program (NCCCP) recipients' achievements in program goals and outcomes.

DATES: CDC must receive written comments on or before March 16, 2026.

ADDRESSES: You may submit comments, identified by Docket No. CDC-2025-1113 by either of the following methods:

☐ Federal eRulemaking Portal: www.regulations.gov. Follow the instructions for submitting comments.

☐ Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7118; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Evaluating the Impact of Training and Technical Assistance (TTA) Programs for NCCP Efforts (OMB Control No. 0920-1193)—Reinstatement with Change—National Center for Chronic Disease Prevention and Health Promotion (NCCDPHP), Centers for Disease Control and Prevention (CDC).

Background and Brief Description

The Centers for Disease Control and Prevention's (CDC) National Comprehensive Cancer Control Program (NCCCP) has been a primary funder for state and community-based cancer control interventions since its inception in the late 1990s. NCCCP's 66 recipients, including programs in all 50 states, the District of Columbia, a number of tribes, tribal organizations, and U.S. Associated Pacific Islands/territories, as well as cancer coalitions, engage with partners to enhance cancer-related data systems and deliver evidence-based interventions (EBIs) for primary prevention, screening and survivorship with the goal of impacting population-level cancer outcomes and reduce the burden of cancer.

To build capacity and maximize the impact of funded NCCCPs, CDC developed and implemented the training and technical assistance program, Evaluating the Impact of Training and Technical Assistance (TTA) Programs for NCCCP Efforts (referred to hereafter as the “TTA Program” or “DP23-0017”). The current TTA program cycle builds upon the previous cycles to enhance NCCCP recipients' capacity to plan for and implement EBIs and strategies through multisectoral partnerships; policy, system, and environmental change approaches; approaches to health for all, and approaches to addressing non-medical factors that influence health. The funded TTA entities are responsible for developing and implementing a TTA plan, sustaining partnerships, employing various training methods, and evaluating their TTA efforts. A comprehensive evaluation is critical to ensure the provision of high-quality and effective TTA. This program is authorized under sections 301(a) and 317(k)(2) of the Public Health Service Act as amended [42 U.S.C. 241(a) and 42 U.S.C. 247b(k)(2)] and also authorizes CDC to collect this information.

CDC proposes to assess DP23-0017 to: (1) document the nature of the TTA provided and the extent to which they were able to achieve planned short-term outcomes; and (2) identify which TTA efforts contributed to NCCCP recipients' achievement in program outcomes. There are no other data collection efforts currently underway to assess implementation or perceived effectiveness of TTA administered under DP23-0017. CDC is requesting a three-year Reinstatement with Change to the previously approved Information Collection Request (ICR) (Assessing the Impact of Targeted Training and Technical Assistance Efforts on the Implementation of Comprehensive Cancer Control Outcomes, OMB Control No. 0920-1193; Expiration Date: 9/30/2023). This request for Reinstatement with Change includes updates to the evaluation design based on programmatic changes. The new design emphasizes short-term outcomes related to reaching NCCCP recipients and increasing recipients' capacity to implement their cancer control plans, achieve their program outcomes, and plan for and implement activities to support sustainability of the NCCCP efforts. There is a new focus on the TTA providers' efforts to network and collaborate with one another and other subject matter experts, advisory groups, and partners to plan for and deliver TTA. Under the previous request, a web-based survey was administered one time to a cross-section of NCCCP recipients. With this Reinstatement, the web-based survey will be administered twice with two individuals from each NCCCP recipient (one Program Coordinator and one NCCCP staff member, partner, or coalition member) who received TTA. This collection will provide interim information on the implementation and short-term outcomes of TTA and allow for program improvements to better serve NCCCP recipients. Lastly, the current evaluation introduces focus groups to collect data from NCCCP recipients on how TTA enhanced their ability to implement cancer control plans. The focus groups will be conducted annually and target a subset of NCCCP recipients who participated in TTA.

The web-based survey and focus groups will capture quantitative and qualitative data on the reach of DP23-0017 TTA efforts, the type and effectiveness of TTA received, and its impact. Survey changes include questions about additional TTA types (e.g., webinars, asynchronous trainings, communities of practice), TTA topics, and the TTA's influence on respondents' and their organizations' capacity to carry out their comprehensive cancer control plans. Focus groups will provide context for survey data, particularly how TTA enhanced program capacity.

CDC requests OMB approval is requested for three years with a total annualized response burden estimated to be 96 hours. Participation is voluntary and respondents will not receive incentives for participation. There are no direct costs to respondents other than their time to participate in data collection activities.

Estimated Annualized Burden Hours
Type of respondent | Form name | Number of respondents | Number of responses per respondent | Average burden per response (in hr) | Total burden (in hr)
Program Directors | Focus Group and Web Survey Nomination Form | 44 | 1 | 30/60 | 22
Program Directors | Focus Group Nomination Form | 22 | 1 | 15/60 | 6
Program Staff, Partners, and Coalition Members | Focus Group Scheduling | 15 | 1 | 5/60 | 1
Program Staff, Partners, and Coalition Members | Focus Group Guide | 15 | 1 | 1.5 | 23
Program Coordinators | Web-based Survey | 44 | 1 | 30/60 | 22
Program Staff, Partners, and Coalition Members | Web-Based Survey | 44 | 1 | 30/60 | 22
Total |  |  |  |  | 96

Jeffrey M. Zirger,
Lead, Information Collection Review Office, Office of Public Health Ethics and Regulations, Office of Science, Centers for Disease Control and Prevention.

[FR Doc. 2026-00424 Filed 1-12-26; 8:45 am]

BILLING CODE 4163-18-P